DEPARTMENT OF HEALTH AND HUMAN SERVICES

National Institutes of Health

National Heart, Lung, and Blood Institute; Amended Notice of Meeting

Notice is hereby given of a change in the meeting of the National Heart, Lung, and Blood Institute Initial Review Group, Mentored Patient-Oriented Research Study Section, October 26, 2023, 10:00 a.m. to October 27, 2023, 6 p.m., National Institutes of Health, Rockledge 1, 6705 Rockledge Drive, Bethesda, MD 20892, which was published in the Federal Register on September 14, 2023, FR Doc 2023-19907, 88 FRN 63115.

The National Heart, Lung, and Blood Institute Initial Review Group, Mentored Patient-Oriented Research Study Section meeting is being amended due to a change of the meeting time formats. The meeting will be held on October 26, 2023, from 9:00 a.m. to October 27, 6:00 p.m. This meeting will be a video assisted meeting, and closed to the public.

Dated: September 18, 2023.
Melanie J. Pantoja,
Program Analyst, Office of Federal Advisory Committee Policy.

[FR Doc. 2023-20648 Filed 9-22-23; 8:45 am]

BILLING CODE 4140-01-P